DEPARTMENT OF THE INTERIOR

Bureau of Indian Affairs

[256A2100DD/AAKC001030/A0A51010.999900]

Proclaiming Certain Lands as Reservation for Cheyenne and Arapaho Tribes, Oklahoma

AGENCY: Bureau of Indian Affairs, Interior.

ACTION: Notice of reservation proclamation.

SUMMARY: This notice informs the public that the Assistant Secretary—Indian Affairs proclaimed approximately 79.21 acres, more or less, an addition to the reservation of the Cheyenne and Arapaho Tribe, Oklahoma.

DATES: This proclamation was made on November 18, 2024.

FOR FURTHER INFORMATION CONTACT: Ms. Carla Clark, Bureau of Indian Affairs, Division of Real Estate Services, 1001 Indian School Road NW, Box #44, Albuquerque, New Mexico 87104, carla.clark@bia.gov, (505) 563-3132.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 5110) for the lands described below. The lands are proclaimed to be the Cheyenne and Arapaho Tribes, Oklahoma Reservation for the Cheyenne and Arapaho Tribes, Oklahoma in Woodward County, Oklahoma.

Cheyenne and Arapaho Tribes, Oklahoma Reservation, Indian Meridian, Woodward County, Oklahoma, Legal Descriptions Containing 79.214 Acres, More or Less

Being a 79.21-acre, Surface and Surface Rights only, tract of land lying in Woodward County located in the following Metes and Bounds: The purpose of this survey and description is to combine two parcels into one description, one parcel being described in Book 2500 at Page 242 and the other parcel being described in Book 2500 at Page 242. All that certain real property situate in the Southwest One-Quarter (SW/4) of section fifteen (15), Township Twenty-two (22), North, Range Twenty (20), West of the Indian Meridian (W.I.M.), located in the County of Woodward, State of Oklahoma and further described as follows: The SW/4 of said section 15 lying north of that perpetual easement to the State of Oklahoma as described in Book 41 at Page 275, dated the 25th day of September, 1933. Additionally, being described by metes and bounds as follows: Beginning at ta found ½″ rod with a red cap “OLS 128” cap 5″ deep accepted for the West One-Quarter corner (W?4) of said Section 15; Thence, North 88′19′16″ East on the East-West One Quarter Section line a distance of 2654.70 to a found ½″ iron rod with a cap stamped CA2064 accepted for the center Quarter (/4) of said Section 15; Thence, South 00′11′24″ East on the North-South One-Quarter section line, at 2051.09 feet passing a set 3/8′ x 18″ rebar with a cap stamp CA8035 on the present North Right of Way line of State Highway 270/183, continuing on said One-Quarter Section line for a total distance of 2120.10 feet to a point on the North line of that perpetual easement to the State of Oklahoma as described in Book 41 at Page 275 dated the 25th day of September, 1933; Thence, on the Northline of said perpetual easement the following three courses: (1.) North 59′53′20″ West a distance of 2141.57 feet to an angle point; (2.) North 30′06′40″ East a distance of 25.00 feet to an angle point; (3.) North 59′53′20″ West a distance to 956.02 feet to a point on the west line of said section 15, Thence, on the West line of Section 15 North 00′02′27″ West, at 158.80 feet passing a set 3/8″ x 18″ rebar with a cap stamp CA8035 on the present North Right of Way line of State Highway, continuing on said section line a total of 466.66 feet to the point of beginning.

Containing 79.21 acres as surveyed. The basis of bearing for this description is True North as evidenced by measure between a found 3/8″ iron pin with red cap stamped OSL 128 3 inched deep accepted for the Southwest Corner (SWc) of said Section 15 and a found ½″ iron rod with a red “OLS” cap 5″ deed accepted for the quarter common to Section 15 and 16, bearing being North 00′02′27″ West between said found monuments. Distance shown here on are grid distances. I, Lee K. Goss, being an Oklahoma Licensed Surveyor Number 1778, certify this description was written by me or under my supervision on September 23, 2000, and meet the minimum standards for the practice of Land Surveying as adopted by the Oklahoma State Board for Engineers and land Surveyors. Furthermore, this description and associated survey, attached hereto and made a part thereof was based on a field survey completed on August 16, 2020.

The above-described lands contain a total of 79.21 acres, more or less, which are subject to all valid rights, reservations, rights-of-way, and easements of record.

This proclamation does not affect title to the lands described above, nor does it affect any valid existing easements for public roads, highways, public utilities, railroads and pipelines, or any other valid easements or rights-of-way or reservations of record.

Bryan Newland,
Assistant Secretary—Indian Affairs.

[FR Doc. 2024-27998 Filed 11-27-24; 8:45 am]

BILLING CODE 4337-15-P